SOCIAL SECURITY ADMINISTRATION

[Docket No: SSA-2022-0052]

Agency Information Collection Activities: Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online referencing Docket ID Number [SSA-2022-0052].

(SSA) Social Security Administration, OLCA, Attn: Reports Clearance Director, 3100 West High Rise, 6401 Security Blvd., Baltimore, MD 21235, Fax: 410-966-2830, Email address: OR.Reports.Clearance@ssa.gov

Or you may submit your comments online through https://www.reginfo.gov/public/do/PRAMain, referencing Docket ID Number [SSA-2022-0052].

SSA submitted the information collections below to OMB for clearance. Your comments regarding these information collections would be most useful if OMB and SSA receive them 30 days from the date of this publication. To be sure we consider your comments, we must receive them no later than November 28, 2022. Individuals can obtain copies of these OMB clearance packages by writing to OR.Reports.Clearance@ssa.gov.

1. Waiver of Your Right to Personal Appearance before a Judge—20 CFR 20 CFR 404.948(b)(1)(i), 404.956, 416.1448(b)(1)(i), and 416.1456—0960-0284. Applicants for Social Security, Old Age, Survivors, and Disability Insurance (OASDI) benefits and Supplemental Security Income (SSI) payments have the statutory right to appear in person (or through a representative) and present evidence about their claims at a hearing before a judge. Per SSA regulations, if a claimant is dissatisfied with a determination or decision listed in 20 CFR 404.930 or 416.1430, the claimant may request a hearing before a judge, and has a right to appear at a hearing before a judge. At a hearing, claimants have the right to present evidence; have witnesses testify on their behalf; and present their case to the judge. A hearing may provide the judge with additional information to make a more informed decision. However, in some cases, claimants may choose to waive their right to appear before a judge for various reasons, including if they feel the evidence of record stands on its own, or if they are unable to attend a hearing due to extenuating circumstances. When a claimant chooses to waive the right to appear at a hearing and allows the judge to decide the case based on the written evidence of record alone, we ask the claimant to submit this request to us in writing so we can document it in their record. While SSA will accept a written request, we also allow claimants to use Form HA-4608 to serve as a written waiver for the claimant's right to a personal appearance before a judge. The claimant may complete the paper version of the HA-4608 and submit it back to SSA using the pre-paid envelope SSA sends with it, or the claimant may choose to complete the HA-4608 through the submittable PDF on SSA's website. The judge uses the information we collect on Form HA-4608 to continue processing the case and makes the completed form a part of the documentary evidence of record by placing it in the official record of the proceedings as an exhibit. Respondents are applicants or claimants for OASDI and SSI, or their representatives, who request to waive their right to appear before a judge.

Type of Request: Revision of an approved-OMB information collection.

Modality of completion | Number of respondents | Frequency of response | Average burden per response (minutes) | Estimated total annual burden (hours) | Average theoretical hourly cost amount (dollars) * | Total annual opportunity cost (dollars) **
HA-4608 | 12,000 | 1 | 5 | 1,000 | $11.70 * | $11,700 **
* We based this figure on the average DI payments based on SSA's current FY 2022 data (https://www.ssa.gov/legislation/2022factsheet.pdf).
** This figure does not represent actual costs that SSA is imposing on recipients of Social Security payments to complete this application; rather, these are theoretical opportunity costs for the additional time respondents will spend to complete the application. There is no actual charge to respondents to complete the application.

2. Plan to Achieve Self-Support (PASS)—20 CFR 416.110(e), 416.1180-416.1182, 416.1225-416.1227—0960-0559. The SSI program encourages recipients to return to work. One of the program objectives is to provide incentives and opportunities that help recipients do so. The Plan to Achieve Self-Support (PASS) provision allows individuals to develop a plan to enter (or re-enter) the workforce and become self-supporting. In turn, SSA does not count the income or resources (such as business equipment, education, or specialized training) recipients use to fund a PASS when determining an individual's SSI eligibility or payment amount. An SSI recipient who wants to take advantage of the PASS provision completes Form SSA-545. SSA uses the information from the SSA-545 to evaluate the recipient's PASS, and to determine eligibility under the provisions of the SSI program. The respondents are SSI recipients who want to develop a return-to-work plan.

Type of Request: Revision of an OMB-approved information collection.

Modality of completion | Number of respondents | Frequency of response | Average burden per response (minutes) | Estimated total annual burden (hours) | Average theoretical hourly cost amount (dollars)* | Average wait time in field office (minutes) ** | Total annual opportunity cost (dollars) ***
SSA-545 | 7,000 | 1 | 120 | 14,000 | $11.70* | 24** | $196,560 ***
* We based this figure on the average DI payments based on SSA's current FY 2022 data (https://www.ssa.gov/legislation/2022factsheet.pdf).
** We based this figure on the average the FY 2022 wait time for field offices, based on SSA's current management information data.
*** This figure does not represent actual costs that SSA is imposing on recipients of Social Security payments to complete this application; rather, these are theoretical opportunity costs for the additional time respondents will spend to complete the application. There is no actual charge to respondents to complete the application.

3. Letter to Custodian of Birth Records—20 CFR 404.704, and 422.103-422.110—0960-0693. When individuals need help in obtaining evidence of their age in connection with Social Security number (SSN) card applications and claims for benefits, SSA prepares the SSA-L706, Letter to Custodian of Birth Records. SSA uses Form SSA-L706 to verify the proof of age when an SSN applicant submits a birth record to the Social Security Number Application Process (SSNAP) system that SSA deems questionable. In most of the cases, we verify birth records (i.e., birth certificates) with the custodian of the record or issuing entity before processing the SSN card application via an online query such as the Electronic Verification of Vital Events (EVVE) or SSA-approved online access to State vital records. However, when the applicant submits alternative evidence to request an original SSN card or to correct a date of birth (DOB) that SSA cannot verify via an online query (i.e., the custodian/issuing entity of the birth record is a hospital or health care provider), we use the SSA-L706 to verify proof of age for enumeration purposes. The SSNAP system pre-fills a PDF version of the SSA-L706 using information from the SSN application to ensure accuracy and save time. SSA uses the letter to verify with the custodian or issuing entity, when necessary, the authenticity of the record the SSN applicant or claimant submitted. SSA mails the SSA-L706 to the respondents to complete and mail or fax back the completed form back to us. The respondents are SSN applicants who sign the request; State and local bureaus or agencies of vital statistics, and religious entities who submit the information regarding evidence of age for the SSN applicant.

Type of Request: Revision of an OMB-approved information collection.

Modality of completion | Number of respondents | Frequency of response | Average burden per response (minutes) | Estimated total annual burden (hours) | Average theoretical hourly cost amount (dollars) * | Total annual opportunity cost (dollars) **
SSA-L706—(SSNAP) | 573 | 1 | 10 | 96 | * $24.57 | ** $2,359
SSA-L706—(Respondents Signature Only) | 573 | 1 | 1 | 10 | * 28.01 | ** 280
Totals | 1,146 |  |  | 106 |  | ** 2,639
* We based these figures on the average U.S. worker's hourly wages, as reported by Bureau of Labor Statistics data (https://www.bls.gov/oes/current/oes_nat.htm), and by averaging both the average U.S. worker's hourly wage with the average Information and Record Clerks hourly wage, as reported by Bureau of Labor Statistics data (https://www.bls.gov/oes/current/oes434199.htm).
** This figure does not represent actual costs that SSA is imposing on recipients of Social Security payments to complete this application; rather, these are theoretical opportunity costs for the additional time respondents will spend to complete the application. There is no actual charge to respondents to complete the application.

4. Request for Accommodation in Communication Method—0960-0777. SSA allows disabled or impaired Social Security applicants, beneficiaries, recipients, and representative payees to choose one of seven alternative methods of communication they want SSA to use when we send them benefit notices and other related communications. The seven alternative methods we offer are: (1) standard print notice by first-class mail; (2) standard print mail with a follow-up telephone call; (3) certified mail; (4) Braille; (5) Microsoft Word file on data CD; (6) large print (18-point font); or (7) audio CD. Respondents who want to receive notices from SSA through a communication method other than the seven methods listed above must explain their request to us. Those respondents use our iAccomodate Intranet or mySNO internet screens, or the paper Form SSA-9000-F6 to: (1) describe the type of accommodation they want from SSA; (2) disclose their condition necessitating the need for a different type of accommodation; and (3) explain why none of the seven methods described above are sufficient for their needs. SSA uses our internet and Intranet screens or Form SSA-9000-F6 to determine, based on applicable law and regulation, whether to grant the respondents' requests for an accommodation based on their impairment or disability. SSA collects this information electronically through either an in-person telephone interview during which the SSA employee keys in the information on our iAccommodate Intranet screens, or through the mySNO internet screens which respondents may complete for themselves using the application available through their mySSA accounts. The respondents are disabled or impaired Social Security or SSI applicants, beneficiaries, recipients, and representative payees who ask SSA to send notices and other communications in an alternative method besides the seven modalities we currently offer.

Type of Request: Revision of an OMB-approved information collection.

Modality of completion | Number of respondents | Frequency of response | Average burden per response (minutes) | Estimated total annual burden (hours) | Average theoretical hourly cost amount (dollars)* | Average teleservice center wait time (minutes)** | Total annual opportunity cost (dollars) ***
SSA-9000/iAccommodate | 5,000 | 1 | 20 | 1,667 | * $11.70 | ** 19 | *** $38,025
mySNO | 8,414 | 1 | 20 | 2,805 | * 11.70 |  | *** 32,819
Totals | 13,414 |  |  | 4,472 |  |  | ***70,844
* We based this figure on the average DI payments based on SSA's current FY 2022 data (https://www.ssa.gov/legislation/2022factsheet.pdf).
** We based this figure on the average FY 2022 wait times for teleservice centers, based on SSA's current management information data.
*** This figure does not represent actual costs that SSA is imposing on recipients of Social Security payments to complete this application; rather, these are theoretical opportunity costs for the additional time respondents will spend to complete the application. There is no actual charge to respondents to complete the application.

Dated: October 24, 2022.
Naomi Sipple,
Reports Clearance Officer, Social Security Administration.

[FR Doc. 2022-23444 Filed 10-26-22; 8:45 am]

BILLING CODE 4191-02-P